DEPARTMENT OF HOMELAND SECURITY

Federal Emergency Management Agency

[Docket ID FEMA-2024-0002; Internal Agency Docket No. FEMA-B-2435]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arkansas:
Saline | City of Benton (23-06-1296P). | The Honorable Tom Farmer, Mayor, City of Benton, P.O. Box 607, Benton, AR 72018. | City Hall, 114 South East Street, Benton, AR 72015. | https://msc.fema.gov/portal/advanceSearch. | Jul. 25, 2024 | 050192
Saline | City of Bryant (23-06-1296P). | The Honorable Rhonda Sanders, Mayor, City of Bryant, 210 Southwest 3rd Street, Bryant, AR 72022. | City Hall, 210 Southwest 3rd Street, Bryant, AR 72022. | https://msc.fema.gov/portal/advanceSearch. | Jul. 25, 2024 | 050308
Colorado:
Arapahoe | City of Aurora (23-08-0403P). | The Honorable Mike Coffman, Mayor, City of Aurora, 15151 East Alameda Parkway, Aurora, CO 80012. | Public Works Department, 15151 East Alameda Parkway, Aurora, CO 80012. | https://msc.fema.gov/portal/advanceSearch. | Aug. 16, 2024 | 080002
Arapahoe | Unincorporated areas of Arapahoe County (23-08-0403P). | Carrie Warren-Gully, Chair, Arapahoe County Board of Commissioners, 5334 South Prince Street, Littleton, CO 80210. | Arapahoe County Public Works and Development Department, 6924 South Lima Street, Centennial, CO 80112. | https://msc.fema.gov/portal/advanceSearch. | Aug. 16, 2024 | 080011
Larimer | City of Loveland (22-08-0336P). | The Honorable Jacki Marsh, Mayor, City of Loveland, 500 East 3rd Street, Suite 330, Loveland, CO 80537. | Public Works Department, 2525 West 1st Street, Loveland, CO 80537. | https://msc.fema.gov/portal/advanceSearch. | Aug. 5, 2024 | 080103
Larimer | Town of Timnath (23-08-0780P). | The Honorable Mark Soukup, Mayor, Town of Timnath, 4750 Signal Tree Drive, Timnath, CO 80547. | TST, Inc., 748 Whalers Way, Fort Collins, CO 80525. | https://msc.fema.gov/portal/advanceSearch. | Aug. 5, 2024 | 080005
Larimer | Unincorporated areas of Larimer County (22-08-0336P). | John Kefalas, Chair, Larimer County Board of Commissioners, P.O. Box 1190, Fort Collins, CO 80522. | Larimer County Courthouse, 200 West Oak Street, Suite 3000, Fort Collins, CO 80521. | https://msc.fema.gov/portal/advanceSearch. | Aug. 5, 2024 | 080101
Larimer | Unincorporated areas of Larimer County (23-08-0780P). | John Kefalas, Chair, Larimer County Board of Commissioners, P.O. Box 1190, Fort Collins, CO 80522. | Larimer County Courthouse, 200 West Oak Street, Suite 3000, Fort Collins, CO 80521. | https://msc.fema.gov/portal/advanceSearch. | Aug. 5, 2024 | 080101
Weld | City of Greeley (24-08-0061P). | The Honorable John Gates, Mayor, City of Greeley, 1000 10th Street, Greeley, CO 80631. | City Hall, 1000 10th Street, Greeley, CO 80631. | https://msc.fema.gov/portal/advanceSearch. | Aug. 15, 2024 | 080184
Florida:
Charlotte | Unincorporated areas of Charlotte County (23-04-5839P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Jul. 29, 2024 | 120061
Escambia | Unincorporated areas of Escambia County (23-04-3556P). | Steven Barry, Chair, Escambia County Board of Commissioners, 3363 West Park Place, Pensacola, FL 32505. | Escambia County Building Department, 3363 West Park Place, Pensacola, FL 32505. | https://msc.fema.gov/portal/advanceSearch. | Aug. 9, 2024 | 120080
Lake | Unincorporated areas of Lake County (24-04-0040P). | Jennifer Baker, Lake County Manager, 315 West Main Street, Tavares, FL 32778. | Lake County Public Works Department, 323 North Sinclair Avenue, Tavares, FL 32778. | https://msc.fema.gov/portal/advanceSearch. | Jul. 22, 2024 | 125106
Lee | City of Fort Myers (24-04-1196P). | Marty K. Lawing, Manager, City of Fort Myers, 2200 2nd Street, Fort Myers, FL 33901. | Building Department, 1825 Hendry Street, Fort Myers, FL 33901. | https://msc.fema.gov/portal/advanceSearch. | Jul. 22, 2024 | 125106
Orange | City of Belle Isle (23-04-6283P). | The Honorable Nicholas Fouraker, Mayor, City of Belle Isle, 1600 Nela Avenue, Belle Isle, FL 32809. | City Hall, 1600 Nela Avenue, Belle Isle, FL 32809. | https://msc.fema.gov/portal/advanceSearch. | Jul. 31, 2024 | 120181
Orange | City of Orlando (23-04-6283P). | The Honorable Buddy Dyer, Mayor, City of Orlando, 400 South Orange Avenue, Orlando, FL 32801. | Public Works Department, Engineering Division, 400 South Orange Avenue, Orlando, FL 32801. | https://msc.fema.gov/portal/advanceSearch. | Jul. 31, 2024 | 120186
Pasco | Unincorporated areas of Pasco County (23-04-6016P). | Ron Oakley, Chair, Pasco County Board of Commissioners, 37918 Meridian Avenue, Dade City, FL 33525. | Pasco County Building Construction Services Department, 8661 Citizens Drive, Suite 100, New Port Richey, FL 34654. | https://msc.fema.gov/portal/advanceSearch. | Aug. 12, 2024 | 120230
Orange | Unincorporated areas of Orange County (23-04-6283P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Jul. 31, 2024 | 120179
Seminole | City of Oviedo (23-04-6041P). | Bryan Cobb, City of Oviedo Manager, 400 Alexandria Boulevard, Oviedo, FL 32762. | Public Works Department, 1655 Evans Street, Oviedo, FL 32765. | https://msc.fema.gov/portal/advanceSearch. | Aug. 15, 2024 | 120293
Seminole | Unincorporated areas of Seminole County (23-04-6041P). | Darren Gray, Seminole County Manager, 1101 East 1st Street, Sanford, FL 32771. | Seminole County Building Division, 1101 East 1st Street, Sanford, FL 32771. | https://msc.fema.gov/portal/advanceSearch. | Aug. 15, 2024 | 120289
Maine:
Penobscot | Town of Hamden (23-01-0389P). | Paula Scott, Manager, Town of Hampden, 106 Western Avenue, Hampden, ME 04444. | Department of Public Safety, Code Enforcement Office, 106 Western Avenue, Hampden, ME 04444. | https://msc.fema.gov/portal/advanceSearch. | Aug. 7, 2024 | 230168
York | Town of Wells (24-01-0143P). | John K. MacLeod III, Chair, Town of Wells Board of Selectmen, 208 Sanford Road, Wells, ME 04090. | Planning and Development Department, 208 Sanford Road, Wells, ME 04090. | https://msc.fema.gov/portal/advanceSearch. | Jul. 18, 2024 | 230158
Massachusetts: Essex | City of Gloucester (23-01-0783P). | The Honorable Greg Varga, Mayor, City of Gloucester, 9 Dale Avenue, Gloucester, MA 01930. | City Hall, 3 Pond Road, 2nd Floor, Gloucester, MA 01930. | https://msc.fema.gov/portal/advanceSearch. | Jul. 18, 2024 | 250082
Montana: Gallatin | Unincorporated areas of Gallatin County (23-08-0757P). | Scott McFarlane, Chair, Gallatin County Commission, 311 West Main Street, Room 306, Bozeman, MT 59715. | Gallatin County Courthouse, 311 West Main Street, Bozeman, MT 59715. | https://msc.fema.gov/portal/advanceSearch. | Jul. 31, 2024 | 300027
South Carolina:
Horry | Unincorporated areas of Horry County (23-04-0840P). | Johnny Gardner, Chair, Horry County Council, 1301 2nd Avenue, Conway, SC 29526. | Horry County Code Enforcement Department, 1301 2nd Avenue, Conway, SC 29526. | https://msc.fema.gov/portal/advanceSearch. | Aug. 16, 2024 | 450104
Jasper | City of Hardeeville (23-04-4472P). | The Honorable Harry Williams, Mayor, City of Hardeeville, P.O. Box 609, Hardeeville, SC 29927. | City Hall, 205 Main Street, Hardeeville, SC 29927. | https://msc.fema.gov/portal/advanceSearch. | Aug. 8, 2024 | 450113
Jasper | Unincorporated areas of Jasper County (23-04-4472P). | Andrew P. Fulghum, Jasper County Administrator, P.O. Box 1149, Ridgeland, SC 29936. | Jasper County Government Building, 358 3rd Avenue, Ridgeland, SC 29936. | https://msc.fema.gov/portal/advanceSearch. | Aug. 8, 2024 | 450112
Texas:
Bexar | City of San Antonio (23-06-2542P). | The Honorable Ron Nirenberg, Mayor, City of San Antonio, P.O. Box 839966, San Antonio, TX 78283. | Transportation and Capital Improvements Department, Stormwater Division, 1901 South Alamo Street, 2nd Floor, San Antonio, TX 78204. | https://msc.fema.gov/portal/advanceSearch. | Jul. 22, 2024 | 480045
Collin | City of Allen (23-06-0949P). | The Honorable Baine Brooks, Mayor, City of Allen, 305 Century Parkway, Allen, TX 75013. | City Hall, 305 Century Parkway, Allen, TX 75013. | https://msc.fema.gov/portal/advanceSearch. | Aug. 19, 2024 | 480131
Collin | City of Frisco (24-06-0036P). | The Honorable Jeff Cheney, Mayor, City of Frisco, 6101 Frisco Square Boulevard, Frisco, TX 75034. | Engineering Department, 6101 Frisco Square Boulevard, 3rd Floor, Frisco, TX 75034. | https://msc.fema.gov/portal/advanceSearch. | Aug. 19, 2024 | 480134
Collin | City of Parker (23-06-0949P). | The Honorable Lee Pettle, Mayor, City of Parker, 5700 East Parker Road, Parker, TX 75002. | City Hall, 5700 East Parker Road, Parker, TX 75002. | https://msc.fema.gov/portal/advanceSearch. | Aug. 19, 2024 | 480139
Collin | City of Plano (24-06-0036P). | The Honorable John B. Muns, Mayor, City of Plano, 1520 K Avenue, Plano, TX 75074. | Engineering Department, 1520 K Avenue, Plano, TX 75074. | https://msc.fema.gov/portal/advanceSearch. | Aug. 19, 2024 | 480140
Collin | City of Princeton (23-06-1094P). | The Honorable Brianna Chacón, Mayor, City of Princeton, 2000 East Princeton Drive, Princeton, TX 75407. | City Hall, 2000 East Princeton Drive, Princeton, TX 75407. | https://msc.fema.gov/portal/advanceSearch. | Aug. 5, 2024 | 480757
Collin | Unincorporated areas of Collin County (23-06-0949P). | The Honorable Chris Hill, Collin County Judge, 2300 Bloomdale Road, McKinney, TX 75071. | Collin County, Juvenile Justice Alternative Education Program Building, 4690 Community Avenue, McKinney, TX 75071. | https://msc.fema.gov/portal/advanceSearch. | Aug. 19, 2024 | 480130
Comal | City of New Braunfels (23-06-2196P). | Robert Camareno, Manager, City of New Braunfels, 550 Landa Street, New Braunfels, TX 78130. | City Hall, 550 Landa Street, New Braunfels, TX 78130. | https://msc.fema.gov/portal/advanceSearch. | Jul. 25, 2024 | 485493
Dallas | Town of Sunnyvale (24-06-0020P). | The Honorable Saji George, Mayor, Town of Sunnyvale, 127 North Collins Road, Sunnyvale, TX 75182. | Town Hall, 127 North Collins Road, Sunnyvale, TX 75182. | https://msc.fema.gov/portal/advanceSearch. | Aug. 5, 2024 | 480188
Denton | City of Denton (23-06-1850P). | Sara Hensley, Manager, City of Denton, 215 East McKinney Street, Denton, TX 76201. | Development Services Center, 401 North Elm Street, Denton, TX 76201. | https://msc.fema.gov/portal/advanceSearch. | Aug. 5, 2024 | 480194
Denton | Town of Argyle (24-06-0041P). | The Honorable Rick Bradford, Mayor, Town of Argyle, P.O. Box 609, Argyle, TX 76226. | Town Hall, P.O. Box 609, Argyle, TX 76226. | https://msc.fema.gov/portal/advanceSearch. | Aug. 5, 2024 | 480775
Fort Bend | City of Missouri City (23-06-0961P). | The Honorable Robin J. Elackatt, Mayor, City of Missouri City, 1522 Texas Parkway, Missouri City, TX 77489. | City Hall, 1522 Texas Parkway, Missouri City, TX 77489. | https://msc.fema.gov/portal/advanceSearch. | Aug. 9, 2024 | 480304
Fort Bend | Unincorporated areas of Fort Bend County (23-06-0961P). | The Honorable K.P. George, Fort Bend County Judge, 401 Jackson Street, Richmond, TX 77469. | Fort Bend County Engineering Department, 401 Jackson Street, 4th Floor, Richmond, TX 77469. | https://msc.fema.gov/portal/advanceSearch. | Aug. 9, 2024 | 480228
Grayson | City of Van Alstyne (23-06-2387P). | The Honorable Jim Atchison, Mayor, City of Van Alstyne, P.O. Box 274, Van Alstyne, TX 75495. | City Hall, 152 North Main Drive, Van Alstyne, TX 75495. | https://msc.fema.gov/portal/advanceSearch. | Aug. 14, 2024 | 481620
Grayson | Unincorporated areas of Grayson County (23-06-2387P). | The Honorable Bruce Dawsey, Grayson County Judge, 100 West Houston Street, Sherman, TX 75090. | Grayson County Courthouse, 100 West Houston Street, Sherman, TX 75090. | https://msc.fema.gov/portal/advanceSearch. | Aug. 14, 2024 | 480829
Kaufman | City of Dallas (24-06-0020P). | T. C. Broadnax, Manager, City of Dallas, 1500 Marilla Street, Room 4EN, Dallas, TX 75201. | Stormwater Operations Department, 2245 Irving Boulevard, 2nd Floor, Dallas, TX 75207. | https://msc.fema.gov/portal/advanceSearch. | Aug. 5, 2024 | 480171
Kaufman | Unincorporated areas of Kaufman County (24-06-0020P). | The Honorable Jakie Allen, Kaufman County Judge, 1902 U.S. Highway 175, Kaufman, TX 75142. | Kaufman County Development Services Department, 106 West Grove Street, Kaufman, TX 75142. | https://msc.fema.gov/portal/advanceSearch. | Aug. 5, 2024 | 480411
McLennan | City of Waco (23-06-0341P). | The Honorable Dillon Meek, Mayor, City of Waco, P.O. Box 2570, Waco, TX 76702. | City Hall, 300 Austin Avenue, Waco, TX 76702. | https://msc.fema.gov/portal/advanceSearch. | Jul. 29, 2024 | 480461
Waller | City of Brookshire (23-06-1114P). | The Honorable Darrell Branch, Mayor, City of Brookshire, P.O. Box 160, Brookshire, TX 77423. | City Hall, 4029 5th Street, Brookshire, TX 77423. | https://msc.fema.gov/portal/advanceSearch. | Jul. 25, 2024 | 481097
Utah:
Salt Lake | City of Holladay (23-08-0730P). | The Honorable Robert M. Dahle, Mayor, City of Holladay, 4580 South 2300 East, Holladay, UT 84117. | Department of Community Development, 4580 South 2300 East, Holladay, UT 84117. | https://msc.fema.gov/portal/advanceSearch. | Aug. 5, 2024 | 490253
Salt Lake | City of Millcreek (23-08-0730P). | The Honorable Jeff Silvestrini, Mayor, City of Millcreek, 1330 East Chambers Avenue, Millcreek, UT 84106. | Planning and Zoning Department, 1330 East Chambers Avenue, Millcreek, UT 84106. | https://msc.fema.gov/portal/advanceSearch. | Aug. 5, 2024 | 490231
Washington | City of St. George (24-08-0001P). | The Honorable Michele Randall, Mayor, City of St. George, 175 East 200 North, St. George, UT 84770. | City Hall, 175 East 200 North, St. George, UT 84770. | https://msc.fema.gov/portal/advanceSearch. | Jul. 29, 2024 | 490117

[FR Doc. 2024-10405 Filed 5-10-24; 8:45 am]

BILLING CODE 9111-12-P